DEPARTMENT OF HEALTH AND HUMAN SERVICES

Administration for Children and Families

Submission for OMB Review; Comment Request

Title: Refugee Unaccompanied Minor Placement Report (ORR-3); Refugee Unaccompanied Minor Progress Report (ORR-4).

OMB No.: 0970-0034.

Description: The two reports will collect information necessary to administer the refugee unaccompanied minor program. The ORR-3 (Placement Report) is submitted to the Office of Refugee Resettlement (ORR) by the service provider agency at initial placement and whenever there is a change in the child's status, including termination from the program. The ORR-4 (Progress Report) is submitted annually and records the child's progress toward the goals listed in the child's case plan.

Respondents: State governments.

Annual Burden Estimates
Instrument | Number of respondents | Number of responses per respondent | Average burden hours per response | Total burden hours
ORR-3 | 15 | 15 | .417 | 94
ORR-4 | 15 | 60 | .250 | 225
Estimated total annual burden hours: 319.

Additional Information: Copies of the proposed collection may be obtained by writing to the Administration for Children and Families, Office of Administration, Office of Information Services, 370 L'Enfant Promenade, SW., Washington, DC 20447, Attn: ACF Reports Clearance Officer. All requests should be identified by the title of the information collection. E-mail address: infocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, 725 17th Street, NW., Washington, DC 20503. Attn: Desk Officer for ACF. E-mail address: Karen_Y._Matsuoka@omb.eop.gov.

Dated: October 26, 2006.
Robert Sargis,
Reports Clearance Officer.

[FR Doc. 06-8958 Filed 10-27-06; 8:45 am]

BILLING CODE 4184-01-M